DEPARTMENT OF THE TREASURY

Office of Thrift Supervision

Proposed Agency Information Collection Activities; Comment Request—Thrift Financial Report: Schedules SC, SO, LD, CF, SI, SQ, and HC

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. Today, the Office of Thrift Supervision within the Department of the Treasury solicits comments on proposed changes to the Thrift Financial Report (TFR), Schedule SC—Consolidated Statement of Condition, Schedule SO—Consolidated Statement of Operations, Schedule LD—Loan Data, Schedule CF—Consolidated Cash Flow Information, Schedule SI—Supplemental Information, Schedule SQ—Consolidated Supplemental Questions, and Schedule HC—Thrift Holding Company. The proposed changes are to become effective with the March 31, 2007, report.

At the end of the comment period, OTS will analyze the comments and recommendations received to determine if it should modify the proposed revisions prior to giving its final approval. OTS will then submit the revisions to the Office of Management and Budget (OMB) for review and approval.

DATES: Submit written comments on or before September 29, 2006.

ADDRESSES: Send comments to Information Collection Comments, Chief Counsel's Office, Office of Thrift Supervision, 1700 G Street, NW., Washington, DC 20552; send facsimile transmissions to FAX number (202) 906-6518; send e-mails to infocollection.comments@ots.treas.gov; or hand deliver comments to the Guard's Desk, east lobby entrance, 1700 G Street, NW., on business days between 9 a.m. and 4 p.m.. All comments should refer to “TFR Revisions—March 2007, OMB No. 1550-0023.” OTS will post comments and the related index on the OTS Internet Site at http://www.ots.treas.gov. In addition, interested persons may inspect comments at the Public Reading Room, 1700 G Street, NW., by appointment. To make an appointment, call (202) 906-5922, send an e-mail to publicinfo@ots.treas.gov, or send a facsimile transmission to (202) 906-7755.

FOR FURTHER INFORMATION: You can access sample copies of the proposed March 2007 TFR form on OTS's Web site at http://www.ots.treas.gov or you may request them by electronic mail from tfr.instructions@ots.treas.gov. You can request additional information about this proposed information collection from James Caton, Director, Financial Monitoring and Analysis Division, (202) 906-5680, Office of Thrift Supervision, 1700 G Street, NW., Washington, DC 20552.

SUPPLEMENTARY INFORMATION: Title: Thrift Financial Report.

OMB Number: 1550-0023.

Form Number: OTS 1313.

Abstract: All OTS-regulated savings associations must comply with the information collections described in this notice. OTS collects this information each calendar quarter, or less frequently if so stated. OTS uses this information to monitor the condition, performance, and risk profile of individual institutions and systemic risk among groups of institutions and the industry as a whole. Except for selected items, these information collections are not given confidential treatment.

Current Action: OTS last revised the form and content of the TFR in a manner that significantly affected a substantial percentage of institutions in March 2004. Revisions since March 2004 focused on specific activities and were primarily made in response to changes in generally accepted accounting principles (GAAP). These focused revisions meant that the new or revised TFR items were minor or applicable to only a small percentage of institutions.

During the past year OTS has evaluated its ongoing information needs. OTS recognizes that the TFR imposes reporting requirements, which are a component of the regulatory burden facing institutions. Another contributor to this regulatory burden is the examination process, particularly on-site examinations during which institution staff spend time and effort responding to inquiries and requests for information designed to assist examiners in evaluating the condition and risk profile of the institution. The amount of attention that examiners direct to risk areas of the institution under examination is, in large part, determined from TFR data. These data, and analytical reports including the Uniform Thrift Performance Report, assist examiners in scoping and making their preliminary assessments of risks during the planning phase of the examination.

A risk-focused review of the information from an institution's TFR allows examiners to make preliminary risk assessments prior to onsite work. The degree of perceived risk determines the extent of the examination procedures that examiners initially plan for each risk area. If the outcome of these procedures reveals a higher level of risk in a particular area, the examiner adjusts the examination scope and procedures accordingly.

TFR data are also a vital source of information for the monitoring and regulatory activities of OTS. Among their benefits, these activities aid in determining whether the frequency of an institution's examination cycle should remain at maximum allowed time intervals, thereby lessening overall regulatory burden. More risk-focused TFR data enhance the ability of OTS to assess whether an institution is experiencing changes in its risk profile that warrant immediate follow-up, which may include accelerating the timing of an on-site examination.

In developing this proposal, OTS considered a range of potential information needs, particularly in the areas of credit risk, liquidity, and liabilities, and identified those additions to the TFR that are most critical and relevant to OTS in fulfilling its supervisory responsibilities. At the same time, OTS has identified certain existing TFR line items that are no longer sufficiently critical or useful to warrant their continued collection. OTS recognizes that the reporting burden that would result from the addition to the TFR of the new items discussed in this proposal would not be fully offset by the proposed elimination of, or establishment of reporting thresholds for, a limited number of other TFR items, thereby resulting in a net increase in reporting burden. Nevertheless, when viewing these proposed revisions to the TFR within a larger context, they help to enhance the on- and off-site supervision capabilities of OTS, which assist with controlling the overall regulatory burden on institutions.

Thus, OTS is requesting comment on the following proposed revisions to the TFR, which would take effect as of March 31, 2007. This proposal would eliminate ten line items from the TFR, revise six existing items, add 16 new items, and eliminate confidential treatment of Schedule HC data. For each of the proposed revisions of existing items or proposed new items, OTS is particularly interested in comments from institutions on whether the information that is proposed to be collected is readily available from existing institution records. OTS also invites comment on whether there are particular proposed revisions for which the new data would be of limited relevance for purposes of assessing risks in a specific segment of the savings association industry. In such cases, OTS requests comments on what criteria, e.g., an asset size threshold or some other measure, we should establish for identifying the specific segment of the savings association industry that we should be require to report the proposed information. Finally, OTS seeks comment on whether, for a particular proposed revision, there is an alternative set of information that could satisfy OTS data needs and be less burdensome for institutions to report than the new or revised items that OTS has proposed. OTS will consider all of the comments it receives as it formulates a final set of revisions to the TFR for implementation in March 2007.

In addition to the revisions proposed in this notice, OTS expects to join the Federal Deposit Insurance Corporation (FDIC), the Board of Governors of the Federal Reserve System (Board), and the Office of the Comptroller of the Currency (OCC), Treasury, in publishing a proposal and request for comments to revise certain deposit information collected in the Call Report and the TFR. These revisions—on Schedule DI for TFR filers—would be proposed to facilitate calculation of the deposit insurance assessment pursuant to the Federal Deposit Insurance Reform Act of 2005 and the Federal Deposit Insurance Reform Conforming Amendments Act of 2005 (collectively, the Reform Act), and pursuant to amendments to 12 CFR Part 327 proposed by the FDIC in the Federal Register, Vol. 71, No. 96, Thursday, May 18, 2006, page 28790.

A. Burden-Reducing Revisions

1. Eliminating SC745, Other Mortgage-Collateralized Securities Issued;

2. Eliminating CF340, Mortgage Loans—Cash Repayment of Principal;

3. Eliminating CF350, Mortgage Loans—Debits Less Credits Other Than Repayment of Principal;

4. Eliminating CF420, New Deposits Received Less Deposits Withdrawn;

5. Eliminating CF435, Deposits Acquired, Net of Dispositions in Bulk Transactions;

6. Eliminating consolidated supplemental question SQ100, “Did you acquire any assets through merger with another depository institution?”;

7. Eliminating consolidated supplemental question SQ110, “Did you include in your balance sheet for the first time assets and/or liabilities acquired as a result of a branch or other bulk deposit purchase?”;

8. Eliminating consolidated supplemental question SQ130, “Has there been a change in control?”;

9. Eliminating consolidated supplemental question SQ160, “Has there been a merger accounted for under the purchase method?”; and

10. Eliminating consolidated supplemental question SQ170, “If you restated your balance sheet for the first time this quarter as a result of applying push-down accounting, enter the date of reorganization.”

A. Revisions of Existing Items

1. Revising the instructions to SC740, Mortgage-Collateralized Securities Issued—CMOs (Including REMICs), to report total mortgage collateralized securities issued;

2. Revising the instructions to SO141, Interest Income on Mortgage Loans, to exclude prepayment penalties, late fees, and assumption fees from the line total;

3. Revising the instructions to SO160, Interest Income on Commercial Loans and Leases, to exclude prepayment penalties, late fees, and assumption fees from the line total;

4. Revising the instructions to SO171, Interest Income on Consumer Loans and Leases, to exclude prepayment penalties, late fees, and assumption fees from the line total;

5. Revising the instructions to SO410, Loan Servicing Fees, to exclude from the reported amount (a) amortization of loan servicing assets or liabilities and valuation adjustments for classes of loan servicing accounted for using the amortization method, and (b) fair value adjustments for classes of servicing carried at fair value; and

6. Revising the language for question HC840 from “Is the holding company or any of its subsidiaries regulated by a foreign financial services regulator?” to “Is the holding company or any of its affiliates conducting operations outside of the U.S. through a foreign branch or subsidiary?”

B. New Items

1. Adding a line, SO142, Prepayment Fees, Late Fees, and Assumption Fees for Mortgage Loans;

2. Adding a line, SO162, Prepayment Fees, Late, Fees, and Assumption Fees for Commercial Loans;

3. Adding a line, SO172, Prepayment Fees, Late Fees, and Assumption Fees for Consumer Loans;

4. Adding a line, SO411, Servicing Amortization and Valuation Adjustments;

5. Adding a line, LD510, 1-4 Dwelling Units Construction-to-Permanent Loans;

6. Adding a line, LD520, Owner-Occupied Multifamily Permanent Loans;

7. Adding a line, LD530, Owner-Occupied Nonresidential Property (Except Land) Permanent Loans;

8. Adding a line, LD610, 1-4 Dwelling Option ARM Loans;

9. Adding a line, LD620, 1-4 Dwelling ARM Loans with Negative Amortization;

10. Adding a line, LD650, Total Capitalized Negative Amortization;

11. Adding a line, CF226, Mortgage Loans Disbursed—Permanent Loans—Home Equity and Junior Liens;

12. Adding a line, CF281, Loans and Participations Purchased—Secured by 1-4 Dwelling Units—Purchased from Entities Other Than Federally-Insured Depository Institutions or Their Subsidiaries;

13. Adding a line, CF282, Loans and Participations Purchased—Secured by 1-4 Dwelling Units—Home Equity and Junior Liens;

14. Adding a line, CF311, Loans and Participations Sold—Secured by 1-4 Dwelling Units—Home Equity and Junior Liens;

15. Adding a line, SI376, Assets Recorded on Schedule SC Under a Fair Value Option; and

16. Adding a line, SI377, Liabilities Recorded on Schedule SC Under a Fair Value Option.

C. Eliminating Confidential Treatment of Schedule HC Data

The specific wording of the captions for the new and revised TFR items discussed in this proposal and the numbering of these items in the report is preliminary.

Discussion of Proposed Revisions

A. Burden-Reducing Revisions

1. Other Mortgage-Collateralized Securities Issued

OTS proposes to eliminate TFR line SC745, Other Mortgage-Collateralized Securities Issued. For the five quarters through December 2005, no data were reported in this line. These data will be included in a redefined TFR line SC740, Mortgage-Collateralized Securities Issued.

The following three line items are proposed for elimination as several thrifts indicated these data were particularly burdensome to report and these data are not critical to supervisory efforts.

2. Cash Repayment of Principal

OTS proposes to eliminate TFR line CF340, Mortgage Loans-Cash Repayment of Principal.

3. Mortgage Loans—Debits Less Credits Other Than Repayment of Principal

OTS proposes to eliminate TFR line CF350, Mortgage Loans-Debits Less Credits Other Than Repayment of Principal.

4. New Deposits Received Less Deposits Withdrawn

OTS proposes to eliminate TFR line CF420, New Deposits Received Less Deposits Withdrawn.

The following six line items are proposed for elimination as OTS can gather these data through other means such as through our Application Tracking System.

5. Deposits Acquired, Net of Dispositions in Bulk Transactions

OTS proposes to eliminate TFR line CF435, Deposits Acquired, Net of Dispositions in Bulk Transactions.

6. Assets Acquired Through Merger With Another Depository Institution

OTS proposes to eliminate consolidated supplemental question SQ100, “Did you acquire any assets through merger with another depository institution?”

7. Assets and/or Liabilities Acquired as Result of Branch or Other Bulk Deposit Purchase

OTS proposes to eliminate consolidated supplemental question SQ110, “Did you include in your balance sheet for the first time assets and/or liabilities acquired as a result of a branch or other bulk deposit purchase?”

8. Change In Control

OTS proposes to eliminate consolidated supplemental question SQ130, “Has there been a change in control?”

9. Merger Accounted for Under the Purchase Method

OTS proposes to eliminate consolidated supplemental question SQ160, “Has there been a merger accounted for under the purchase method?”

10. Balance Sheet Restatement as Result of Applying Push-Down Accounting

OTS proposes to eliminate consolidated supplemental question SQ170, “If you restated your balance sheet for the first time this quarter as a result of applying push-down accounting, enter the date of reorganization.”

B. Revisions of Existing Items

1. Mortgage-Collateralized Securities Issued—CMOs (Including REMICs)

OTS proposes to revise the instructions to TFR line SC740 to include all mortgage-collateralized securities issued by the reporting institution. SC740 would be renamed as “Mortgage-Collateralized Securities Issued”. This change will incorporate the data from the elimination of SC745, Other Mortgage-Collateralized Securities Issued.

2. Interest Income on Mortgage Loans

OTS proposes to revise the instructions to TFR line SO141, Interest Income on Mortgage Loans, to exclude prepayment penalties, late fees, and assumption fees from the line total. The excluded data would be reported in the proposed new line item, SO142, Prepayment Fees, Late Fees, and Assumption Fees for Mortgage Loans.

3. Interest Income on Commercial Loans and Leases

OTS proposes to revise the instructions to TFR line SO160, Interest Income on Commercial Loans and Leases, to exclude prepayment penalties, late fees, and assumption fees from the line total. The excluded data would be reported in the proposed new line item, SO162, Prepayment Fees, Late Fees, and Assumption Fees for Commercial Loans and Leases.

4. Interest Income on Consumer Loans and Leases

OTS proposes to revise the instructions to TFR line SO171, Interest Income on Consumer Loans and Leases, to exclude prepayment penalties, late fees, and assumption fees from the line total. The excluded data would be reported in the proposed new line item, SO172, Prepayment Fees, Late Fees, and Assumption Fees for Consumer Loans and Leases.

5. Loan Servicing Fees

OTS proposes to revise the instructions to TFR line SO410 to require reporting of total servicing income and expense exclusive of (a) amortization of servicing assets and liabilities, and valuation adjustments, for classes of servicing accounted for using the amortization method; and (b) fair value adjustments for classes of servicing classes carried at fair value. Excluding these data will provide a better measure of core servicing income in SO410. The excluded data would be collected through the addition of SO411, Servicing Amortization and Valuation Adjustments, noted below; and

6. Holding Company or Affiliates Conducting Operations Outside of the U.S. Through a Foreign Branch or Subsidiary

OTS proposes to revise the question asked in TFR line HC840, “Is the holding company or any of its subsidiaries regulated by a foreign financial services regulator?” to “Is the holding company or any of its affiliates conducting operations outside of the U.S. through a foreign branch or subsidiary?” This line is being revised to more fully identify holding companies with foreign operations, including parallel banking operations. A parallel banking organization exists when at least one U.S. bank and one foreign financial institution are controlled either directly or indirectly by the same person or group of persons who are closely associated in their business dealings or otherwise acting together, but are not subject to consolidated supervision by a single home country supervisor. A foreign financial institution includes a holding company of the foreign bank and any U.S. or foreign affiliates of the foreign bank.

C. New Items

1. SO142, Prepayment Fees, Late Fees, and Assumption Fees for Mortgage Loans

OTS proposes to add TFR line SO142, Prepayment Fees, Late Fees, and Assumption Fees for Mortgage Loans, to collect data as a memorandum item to total interest income on mortgage loans to monitor changes in the volume of prepayment fees, late fees, and assumption fees relative to total interest income on mortgage loans. Beginning in 2006, pursuant to several institutions' requests and consistent with GAAP, prepayment fees, late fees, and assumption fees were included in interest income. Adding memorandum items SO142, SO162, and SO172 for these fees will allow for analysis of loan yields and the impact of these fees on interest income during interest rate and prepayment cycles.

2. SO162, Prepayment Fees, Late, Fees, and Assumption Fees for Commercial Loans

OTS proposes to add TFR line SO162, Prepayment Fees, Late Fees, and Assumption Fees for Commercial Loans, to collect data as a memorandum item to total interest income on commercial loans to monitor changes in the volume of prepayment fees, late fees, and assumption fees relative to total interest income on commercial loans.

3. SO172, Prepayment Fees, Late Fees, and Assumption Fees for Consumer Loans

OTS proposes to add TFR line SO172, Prepayment Fees, Late Fees, and Assumption Fees for Consumer Loans, to collect data as a memorandum item to total interest income on consumer loans to monitor changes in the volume of prepayment fees, late fees, and assumption fees relative to total interest income on consumer loans.

4. SO411, Servicing Amortization and Valuation Adjustments

OTS proposes to add TFR line SO411, Servicing Amortization and Valuation Adjustments, to collect these data separately from SO410, Loan Servicing Fees, as noted under revisions to SO410. Separating amortization of servicing assets and liabilities and servicing valuation adjustments for classes of servicing assets and liabilities accounted for using the amortization method, and fair value adjustments for classes of servicing assets and liabilities accounted for using the fair value method, will allow for analysis of core income in SO410 and the volatility the adjustments in SO411 add to servicing income.

5. LD510, 1-4 Dwelling Units Construction-to-Permanent Loans

OTS proposes to add TFR line LD510, 1-4 Dwelling Units Construction-to-Permanent Loans, to collect data as a memorandum item to SC230, Construction Loans—Total for Residential 1-4 Dwelling Units. Several savings associations requested this change. Some analysts consider construction loans made to the eventual homeowner to pose less credit risk than other construction loans. Adding this line will allow OTS to monitor the activity for such loans and monitor the overall construction loan credit performance of thrifts engaging in such lending.

6. LD520, Owner-Occupied Multifamily Permanent Loans

OTS proposes to add TFR line LD520, Owner-Occupied Multifamily Permanent Loans, to collect data as a memorandum item to SC256, Permanent Loans—Total for Multifamily (5 or more) Dwelling Units. Planned TFR lines LD520 and LD530 will enable OTS to improve monitoring of commercial real estate (CRE) loan portfolios. The risk profiles of loans captured in these two line items are generally less influenced by the condition of the broader CRE markets than other forms of CRE lending.

7. LD530, Owner-Occupied Nonresidential Property (Except Land) Permanent Loans

OTS proposes to add TFR line LD530, Owner-Occupied Nonresidential Property (Except Land) Permanent Loans, to collect data as a memorandum item to SC260, Permanent Loans—Nonresidential Property (Except Land).

8. LD610, 1-4 Dwelling Option ARM Loans

OTS proposes to add TFR line LD610, 1-4 Dwelling Option ARM Loans. The data will provide OTS with information to monitor the volume of option ARM loans within 1-4 dwelling unit mortgage loan portfolios.

9. LD620, 1-4 Dwelling ARM Loans with Negative Amortization

OTS proposes to add TFR line LD620, 1-4 Dwelling ARM Loans with Negative Amortization. The data will be used to monitor the volume of ARM loans with negative amortization features within 1-4 dwelling unit mortgage loan portfolios.

10. LD650, Total Capitalized Negative Amortization

OTS proposes to add TFR line LD650, Total Capitalized Negative Amortization. The data will allow OTS to monitor the amount of capitalized negative amortization.

11. CF226, Mortgage Loans Disbursed—Permanent Loans—Home Equity and Junior Liens Disbursed—Permanent Loans—Home Equity and Junior Liens

OTS proposes to add TFR line CF226, Mortgage Loans Disbursed—Permanent Loans—Home Equity and Junior Liens. Aggregate home equity loans have increased strongly in recent years. Among OTS-regulated thrifts, such loans have increased over 70 percent to $91.6 billion in the first quarter of 2006 from $53.5 billion two years earlier. The proposed line items CF226, CF281, and C311 will provide OTS with data to monitor the activity of these loans.

12. CF281, Loans and Participations Purchased—Secured by 1-4 Dwelling Units—Purchased from Entities Other Than Federally-Insured Depository Institutions or Their Subsidiaries

OTS proposes to add TFR line CF281, Loans and Participations Purchased—Secured by 1-4 Dwelling Units—Purchased from Entities Other Than Federally-Insured Depository Institutions or Their Subsidiaries. Aggregate thrift industry loan purchases from third party originators are strong, totaling $356 billion in 2005, or 35.2 percent of total 1-4 dwelling unit mortgage loans originated and purchased. The addition of this line item will provide OTS with information regarding the source of these purchases.

13. CF282, Loans and Participations Purchased—Secured by 1-4 Dwelling Units—Home Equity and Junior Liens

OTS proposes to add TFR line CF282, Loans and Participations Purchased—Secured by 1-4 Dwelling Units—Home Equity and Junior Liens. Industry holdings of home equity loans have increased significantly since 2004, rising over 70 percent to $91.6 billion in the first quarter of 2006 from $53.5 billion two years earlier. The growing volumes and importance of such loans to savings associations warrants the collection of additional data to monitor them.

14. CF311, Loans and Participations Sold—Secured by 1-4 Dwelling Units—Home Equity and Junior Liens

OTS proposes to add TFR line CF311, Loans and Participations Sold—Secured by 1-4 Dwelling Units—Home Equity and Junior Liens.

15. SI376, Assets Recorded On Schedule SC Under a Fair Value Option

OTS proposes to add TFR line SI376, Assets Recorded On Schedule SC Under a Fair Value Option. Two outstanding and one proposed Statements of Financial Accounting Standards (FAS) include options for entities to elect to measure certain assets and liabilities at fair value, with changes in fair value reported in income. These outstanding and proposed standards comprise FAS 155, Accounting for Certain Hybrid Financial Instruments—an Amendment of FASB (Financial Accounting Standards Board) Statements No. 133 and 140; FAS 156, Accounting for Servicing of Financial Assets—an Amendment of FASB Statement No. 140; and an exposure draft, The Fair Value Option for Financial Assets and Financial Liabilities—Including an Amendment of FASB Statement No. 115 (the fair value option (FVO) exposure draft).

FAS 155 allows entities to elect fair value accounting for certain hybrid financial instruments that were previously required to be bifurcated pursuant to FAS 133 with the embedded derivative accounted for separately from the host contract. FAS 156 requires institutions to initially measure servicing assets and liabilities at fair value, then to establish classes of servicing assets for subsequent accounting for which they may elect amortization method (pre-FAS 156 method) or fair-value accounting. The FVO exposure draft proposes to allow companies to irrevocably elect fair value as the measurement attribute for certain financial assets and financial liabilities, with changes in fair value recognized in earnings as those changes occur.

FAS 155 and FAS 156 are effective for fiscal years beginning after December 15, 2006, though they may be adopted early in certain circumstances, and the FVO exposure draft is proposed to be effective for fiscal years beginning after December 15, 2006. Under the FVO exposure draft, as of the date of initial adoption, an entity would also be permitted to elect the fair value option for any existing financial asset or financial liability within the scope of the proposed Statement, with the difference between the fair value and its prior carrying amount recorded through retained earnings. OTS anticipates that relatively few institutions will elect fair value options, and therefore propose to collect minimal data. Institutions adopting fair value options may be asked to provide more detailed information separate from the TFR directly to supervisory staff.

16. SI377, Liabilities Recorded on Schedule SC Under a Fair Value Option

OTS proposes to add TFR line SI377, Liabilities Recorded On Schedule SC Under a Fair Value Option as described in FAS 155, FAS 156, and in the FVO exposure draft. FAS 155 allows entities to elect fair value accounting for certain hybrid financial instruments that were previously bifurcated pursuant to FAS 133 with the embedded derivative accounted for separately. FAS 156 requires institutions to initially measure servicing assets and liabilities at fair value, then to establish classes of servicing assets for subsequent accounting for which they may elect amortization method (current method) or fair value accounting. The FVO exposure draft proposes to allow companies to irrevocably elect fair value as the measurement attribute for certain financial assets and financial liabilities, with changes in fair value recognized in earnings as those changes occur.

FAS 155 and FAS 156 are effective for fiscal years beginning after December 15, 2006, though they may be adopted early in certain circumstances, and the proposed standard is also scheduled to be effective for fiscal years beginning after December 15, 2006. Under FASB's proposed fair value option standard, as of the date of initial adoption, an entity would also be permitted to elect the fair value option for any existing financial asset or financial liability within the scope of the proposed statement, with the difference between the fair value and its prior carrying amount recorded through retained earnings.

D. Eliminating Confidential Treatment of Schedule HC Data

OTS is requesting comments on the continued confidential treatment of data filed by individual thrift holding companies on Schedule HC. OTS presently does not publicly release Schedule HC data filed by holding companies. However, many public requests are received for these data. In addition, some rating agencies have indicated thrift holding company debt ratings suffer due to the lack of publicly available data. One option under consideration by OTS would permit holding companies filing these data to opt to maintain the confidentiality on a case-by-case basis.

Request for Comments: OTS may not conduct or sponsor an information collection, and respondents are not required to respond to an information collection, unless the information collection displays a currently valid OMB control number.

In this notice, OTS is soliciting comments concerning the following information collection.

Statutory Requirement: 12 U.S.C. 1464(v) imposes reporting requirements for savings associations.

Type of Review: Revision of currently approved collections.

Affected Public: Business or for profit.

Estimated Number of Respondents and Recordkeepers: 856.

Estimated Burden Hours per Respondent: 36.5 hours average for quarterly schedules and 1.9 hours average for schedules required only annually plus recordkeeping of an average of one hour per quarter.

Estimated Frequency of Response: Quarterly.

Estimated Total Annual Burden: 130,026 hours.

OTS is proposing to revise the TFR, which is currently an approved collection of information. The effect on reporting burden of the proposed revisions to the TFR requirements will vary from institution to institution depending on the institution's asset size and its involvement with the types of activities or transactions to which the proposed changes apply. This proposal would eliminate ten line items from the TFR, revise six existing items, add 16 new items, and eliminate confidential treatment of Schedule HC data.

OTS estimates that the implementation of these reporting revisions will result in a nominal increase in the current reporting burden imposed by the TFR on all savings associations.

As part of the approval process, we invite comments addressing one or more of the following points:

a. Whether the proposed revisions to the TFR collections of information are necessary for the proper performance of the agency's functions, including whether the information has practical utility;

b. The accuracy of the agency's estimate of the burden of the collection of information;

c. Ways to enhance the quality, utility, and clarity of the information to be collected;

d. Ways to minimize the burden of information collections on respondents, including through the use of automated collection techniques, the Internet, or other forms of information technology; and

e. Estimates of capital or start up costs and costs of operation, maintenance, and purchase of services to provide information.

OTS will summarize the comments received and include them in the request for OMB approval. All comments will become a matter of public record.

Clearance Officer: Marilyn K. Burton, (202) 906-6467, Office of Thrift Supervision, 1700 G Street, NW., Washington, DC 20552.

OMB Reviewer: Desk Officer for OTS, FAX: (202) 395-6974, U.S. Office of Management and Budget, 725—17th Street, NW., Room 10235, Washington, DC 20503.

Dated: July 26, 2006.
Deborah Dakin,
Senior Deputy Chief Counsel, Regulations and Legislation Division.

[FR Doc. E6-12251 Filed 7-28-06; 8:45 am]

BILLING CODE 6720-01-P